DEPARTMENT OF THE INTERIOR

Bureau of Indian Affairs

[DR.5B711.IA000815]

Indian Gaming

AGENCY: Bureau of Indian Affairs, Interior.

ACTION: Notice of approved Tribal-State Class III Gaming Compact.

SUMMARY: This notice publishes the approval of the compact between the Oglala Sioux Tribe and the State of South Dakota governing Class III gaming (Compact).

DATES: Effective Date: February 3, 2015.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR § 293.4, all compacts are subject to review and approval by the Secretary. The Compact expands the type of gaming permitted, increases the number of gaming devices, and raises the limits on wagers. The term of the Compact is 10 years, and may be extended for additional 10-year periods.

Dated: January 22, 2015.
Kevin K. Washburn,
Assistant Secretary—Indian Affairs.

[FR Doc. 2015-01982 Filed 2-2-15; 8:45 am]

BILLING CODE 4310-4N-P